TENNESSEE VALLEY AUTHORITY

Sunshine Act Meetings

TIME AND DATE: 10 a.m. on November 10, 2021.

PLACE: Please use the following link for the live stream of meeting: https://tva.com/board/watch.

STATUS: Open, via live streaming only.

MATTERS TO BE CONSIDERED:

Meeting No. 21-04

The TVA Board of Directors will hold a public meeting on November 10, 2021. Due to the ongoing risks associated with the COVID-19 outbreak, the meeting will be streamed to the public. The meeting will be called to order at 10 a.m. ET to consider the agenda items listed below. TVA Board Chair Bill Kilbride and TVA management will answer questions from the news media following the Board meeting.

Public health concerns also require a change to the Board's public listening session. Although in-person comments from the public are not feasible, the Board is encouraging those wishing to express their opinions to submit written comments that will be provided to the Board members before the November 10 meeting. Written comments can be submitted through the same online system used to register to speak at previous listening sessions.

Agenda

1. Approval of minutes of the August 18, 2021 Board Meeting

2. Report of the Audit, Finance, Risk, and Cybersecurity Committee

A. Fiscal Year 2023 Pandemic Recovery Credit

B. Financial Hedging Program

3. Report of the Operations and Nuclear Oversight Committee

A. Cumberland and Kingston—Plant Retirement and Generation Alternatives Delegation

4. Report of the External Stakeholders and Regulation Committee

A. Recognition of Local Power Company

B. TVA's Biodiversity Policy

5. Report of the People and Governance Committee

A. Fiscal Year 2021 Performance and Compensation

B. CEO Compensation for Fiscal Year 2022

6. Governance Item

A. Assistant Corporate Secretary Designations

7. Information Item

A. Committee Charters

B. Arrangements with Direct-Service Customers

8. Report from President and CEO

CONTACT PERSON FOR MORE INFORMATION: For more information: Please call Jim Hopson, TVA Media Relations at (865) 632-6000, Knoxville, Tennessee. Anyone who wishes to comment on any of the agenda in writing may send their comments to: TVA Board of Directors, Board Agenda Comments, 400 West Summit Hill Drive, Knoxville, Tennessee 37902.

Dated: November 3, 2021.
Edward C. Meade,
Agency Liaison.

[FR Doc. 2021-24467 Filed 11-4-21; 11:15 am]

BILLING CODE 8120-08-P